Proclamation 9085 of February 28, 2014

National Colorectal Cancer Awareness Month, 2014

By the President of the United States of America

A Proclamation

The second leading cause of cancer deaths in the United States, colorectal cancer claims more than 50,000 American lives each year. Because the odds of survival rise dramatically when this cancer is caught early, calling attention to it can save lives. During National Colorectal Cancer Awareness Month, we aim to improve public understanding of risk factors and screening recommendations, reach for better treatments, and set our sights on a cure.

While anyone can get colorectal cancer, the risk increases with age. Nine out of ten cases occur in people over 50 years old, and the likelihood is also greater for people of African-American or Eastern European descent and those with inflammatory bowel disease or a family history of colorectal cancer. Symptoms can include stomach pain, aches, or cramps that do not go away and weight loss without a known cause. Yet many cases have no symptoms, especially early on, when it can be prevented or more effectively treated. That is why it is crucial for people of all ages to discuss colorectal cancer with their doctors and those at risk or between ages 50 and 75 to get regular screenings.

My Administration is funding research to improve prevention and treatment, and to identify the best ways to promote colorectal cancer screening. We are also working to ensure screenings and treatment are available and affordable for all. The Centers for Disease Control and Prevention funds programs that provide these tests to underserved, at-risk Americans. And under the Affordable Care Act, most health insurance plans cover recommended preventive services, including colorectal cancer screening for adults ages 50 to 75, at no out-of-pocket cost to the patient. Thanks to the health care law, insurance companies can no longer put annual or lifetime dollar caps on essential health benefits or discriminate against people with pre-existing conditions. Americans have their first chance to sign up for affordable, high quality coverage in the Health Insurance Marketplace through open enrollment until March 31st, and annually going forward.

Everyone has a role to play in reducing deaths from colorectal cancer. This month, I encourage Americans to talk to at-risk parents, grandparents, or friends of all ages about getting screened. If we look out for one another, we can better the chances of survival and keep more families whole.

NOW, THEREFORE, I, BARACK OBAMA, President of the United States of America, by virtue of the authority vested in me by the Constitution and the laws of the United States, do hereby proclaim March 2014 as National Colorectal Cancer Awareness Month. I encourage all citizens, government agencies, private businesses, non-profit organizations, and other groups to join in activities that will increase awareness and prevention of colorectal cancer.

IN WITNESS WHEREOF, I have hereunto set my hand this twenty-eighth day of February, in the year of our Lord two thousand fourteen, and of the Independence of the United States of America the two hundred and thirty-eighth.

[FR Doc. 2014-05076

Filed 3-6-14; 8:45 am]

Billing code 3295-F4